DEPARTMENT OF LABOR

Employment and Training Administration

[TA-W-42,160]

Altadis U.S.A. Inc. McAdoo, PA; Notice of Termination of Investigation

Pursuant to section 221 of the Trade Act of 1974, an investigation was initiated on September 23, 2002, in response to a worker petition which was filed by the Teamsters Local Union No. 401 on behalf of workers at Altadis U.S.A., Inc., McAdoo, Pennsylvania.

The petitioner has requested that the petition be withdrawn. Consequently, further investigation in this case would serve no purpose, and the investigation has been terminated.

Signed in Washington, DC, this 15th day of November, 2002.
Richard Church,
Certifying Officer, Division of Trade Adjustment Assistance.

[FR Doc. 02-30069 Filed 11-26-02; 8:45 am]

BILLING CODE 4510-30-P